GENERAL SERVICES ADMINISTRATION

[Notice-MG-2023-03; Docket No. 2023-0002; Sequence No. 34]

Office of Federal High-Performance Green Buildings; Green Building Advisory Committee; Notification of Upcoming Public Meetings

AGENCY: Office of Government-wide Policy, General Services Administration (GSA).

ACTION: Meeting notice.

SUMMARY: In accordance with the requirements of the Federal Advisory Committee Act, this notice provides the agenda for one in-person and Web-based (hybrid) meeting of the Green Building Advisory Committee (the Committee) and a series of Web-based meetings of the Committee's Federal Building Decarbonization Task Group (the Task Group).

The meetings are open to the public to observe; online attendees are required to register in advance to attend as instructed below.

DATES: The Committee's hybrid meeting will be held Thursday, November 2, 2023, from 10 a.m. to 4 p.m., Eastern Time (ET). In addition, the Committee's Federal Building Decarbonization Task Group will continue to hold a series of web-based meetings on consecutive Mondays from October 16, 2023 to October 30, 2023 and alternative Mondays from November 13, 2023 through February 26, 2024, from 3 p.m. to 4 p.m., Eastern Time (ET). This is a continuation of a series of meetings previously announced in 87 FR 61322 (https://www.federalregister.gov/documents/2022/10/11/2022-21964/office-of-federal-high-performance-buildings-green-building-advisory-committee-notification-of).

ADDRESSES: GSA Headquarters, 1800 F Street NW, Washington, DC 20405.

FOR FURTHER INFORMATION CONTACT: Mr. Michael Bloom, Designated Federal Officer, Office of Federal High-Performance Green Buildings, Office of Government-wide Policy, GSA, 1800 F Street NW, (Mail-code: MG), Washington, DC 20405, at gbac@gsa.gov or 312-805-6799. Additional information about the Committee, including meeting materials and agendas, will be made available on-line at https://www.gsa.gov/gbac.

SUPPLEMENTARY INFORMATION:

Procedures for Attendance and Public Comment

To register to attend the November 2nd meeting as a public observer, please send the following information via email to gbac@gsa.gov: your first and last name, organization and email address and whether you would like to provide public comment. Requests to observe the November 2nd, 2023 meeting must be received by 12 p.m. ET, on Monday, October 30, 2023 to receive the meeting information.

Requests to observe the full series of Task Group meetings must be received by 5 p.m. ET on the Monday before the meeting in question. Since Task Group meetings are conducted as a series, it will be most useful to observe all or most of them from the start.

For all online meetings, Web meeting attendance information will be provided following registration. Time will be provided at all meetings for public comment wherever possible.

GSA will be unable to provide technical assistance to any listener experiencing technical difficulties. Testing access to the Web meeting site before the calls is recommended. To request an accommodation, such as closed captioning, or to ask about accessibility, please contact Mr. Bloom at gbac@gsa.gov at least five business days prior to the meeting to give GSA as much time as possible to process the request.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

November 2nd Meeting Agenda

• Welcome

• Introductions

• Task Group Presentations, Recommendations and Vote (as needed)

○ Federal Building Decarbonization

○ Green Leasing

• Working Lunch with Speaker

• Discussion of Next Potential Committee Topics

• Public Comments

• Adjourn

Green Building Advisory Committee

Federal Building Decarbonization Task Group

The Federal Building Decarbonization Task Group will work to develop recommendations to the full Committee to propose to GSA, to prioritize federal building decarbonization strategies. This phase of the Task Group builds on the findings of the first two phases of this Task Group with a deeper investigation of issues related to beneficial federal building electrification.

Kevin Kampschroer,
Federal Director, Office of Federal High-Performance Green Buildings, General Services Administration.

[FR Doc. 2023-20967 Filed 9-26-23; 8:45 am]

BILLING CODE 6820-14-P